FEDERAL ELECTION COMMISSION

Sunshine Act; Notices

Date and Time: Monday, September 8, 2003, at 3:30 P.M.

Place: 999 E Street, NW., Washington, DC.

Status: This meeting will be closed to the public.

Items to be Discussed: Compliance matters pursuant to 2 U.S.C. 437g.

Audits conducted pursuant to 2 U.S.C. 437g, 438(b), and Title 26, U.S.C.

Matters concerning participation in civil action or proceedings or arbitration.

Internal personnel rules and procedures or matters affecting a particular employee.

Person to Contact For Information: Mr. Ron Harris, Press Officer, Telephone: (202) 694-1220.

Mary W. Dove,
Secretary of the Commission.

[FR Doc. 03-22676 Filed 9-2-03; 2:45 pm]

BILLING CODE 6715-01-M